DEPARTMENT OF TRANSPORTATION

Federal Aviation Administration

14 CFR Part 39

[Docket No. FAA-2015-0627; Directorate Identifier 2015-CE-002-AD]

RIN 2120-AA64

Airworthiness Directives; Piper Aircraft, Inc. Airplanes

AGENCY: Federal Aviation Administration (FAA), DOT.

ACTION: Notice of proposed rulemaking (NPRM).

SUMMARY: We propose to adopt a new airworthiness directive (AD) for certain Piper Aircraft, Inc. Models PA-23-250, PA-24-250, PA-24-260, PA-24-400, PA-30, PA-31, PA-31-300, PA-31P, PA-39, and PA-E23-250 airplanes. This proposed AD was prompted by an accident caused by fuel starvation where the shape of the wing fuel tanks and fuel below a certain level in that tank may have allowed the fuel to move away from the tank outlet during certain maneuvers. This proposed AD would require installing a fuel system management placard on the aircraft instrument panel and adding text to the Limitations section of the pilot's operating handbook (POH)/airplane flight manual (AFM). We are proposing this AD to correct the unsafe condition on these products.

DATES: We must receive comments on this proposed AD by May 7, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Piper Aircraft, Inc., Customer Service, 2926 Piper Drive, Vero Beach, Florida 32960; telephone: (877) 879-0275; fax: none; email: customer.service@piper.com; Internet: www.piper.com. You may review the referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2015-0627; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Ansel James, Aerospace Engineer, Atlanta Aircraft Certification Office, FAA, 1701 Columbia Avenue, College Park, Georgia 30337; telephone: (404) 474-5576; fax: (404) 474-5606; email: ansel.james@faa.gov.

SUPPLEMENTARY INFORMATION:

Comments Invited

We invite you to send any written relevant data, views, or arguments about this proposal. Send your comments to an address listed under the ADDRESSES section. Include “Docket No. FAA-2015-0627; Directorate Identifier 2015-CE-002-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received a report of an accident where the shape of the wing fuel tanks on Piper Aircraft, Inc. Models PA-23-250, PA-24-250, PA-24-260, PA-24-400, PA-30, PA-31, PA-31-300, PA-31P, PA-39, and PA-E23-250 airplanes, combined with fuel below a certain level in the selected tank, may have allowed the fuel to move away from the tank outlet during certain maneuvers causing fuel starvation. These airplanes do not have baffles in the fuel tanks. Baffles in the fuel tanks slow the movement of fuel in the tank during certain maneuvers and prevent the unsafe condition. Certain maneuvers, such as prolonged turns during taxi prior to takeoff and inflight maneuvers like prolonged slips and skids at any pitch attitude, can cause the fuel in the tanks to temporarily move away from the tank outlet. This could result in an interruption in the flow of the fuel to the engine. It was also noted, the manufacturer insufficiently defined procedures for low fuel operation. This condition, if not corrected, could lead to loss of engine power or engine shutdown, which may result in loss of control.

Relevant Service Information Under 1 CFR Part 51

We reviewed Piper Aircraft, Inc. Service Bulletin No. 1266, dated December 16, 2014. Piper Aircraft, Inc. Service Bulletin No. 1266, dated December 16, 2014, calls for/describes actions for, when necessary, installing the correct fuel warning placard on the instrument panel and adding correct text of that fuel warning placard in the Limitations section of the POH/AFM. This service information is reasonably available; see ADDRESSES for ways to access this service information.

FAA's Determination

We are proposing this AD because we evaluated all the relevant information and determined the unsafe condition described previously is likely to exist or develop in other products of the same type design.

Proposed AD Requirements

This proposed AD would require accomplishing the actions specified in the service information described previously.

Costs of Compliance

We estimate that this proposed AD affects 3,000 airplanes of U.S. registry.

We estimate the following costs to comply with this proposed AD:

Estimated Costs
Action | Labor cost | Parts cost | Cost per product | Cost on U.S. operators
Inspection to determine if placard, if installed, and Limitations section of the POH/AFM are compliant with Piper Aircraft, Inc. Service Bulletin No. 1266, dated December 16, 2014 | .5 work-hour × $85 per hour = $42.50 | Not Applicable | $42.50 | $127,500

We estimate the following costs to do any necessary placard/POH/AFM order and installation that would be required based on the results of the proposed inspection. We have no way of determining the number of aircraft that might need any necessary placard/POH/AFM order and installation:

On-Condition Costs
Action | Labor cost | Parts cost | Cost per product
Order and install replacement placard | 1 work-hour × $85 per hour = $85 | $40 | $125
Order updated POH/AFM and install updated pages | .5 work-hour × $85 per hour = $42.50 | 300 | 342.50

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Piper Aircraft, Inc. Airplanes: Docket No. FAA-2015-0627; Directorate Identifier 2015-CE-002-AD.

(a) Comments Due Date

We must receive comments by May 7, 2015.

(b) Affected ADs

None.

(c) Applicability

This AD applies to Piper Aircraft, Inc. Models PA-23-250, PA-24-250, PA-24-260, PA-24-400, PA-30, PA-31, PA-31-300, PA-31P, PA-39, and PA-E23-250 airplanes, certificated in any category, as identified in Piper Aircraft, Inc. Mandatory Service Bulletin No. 1266, dated December 16, 2014.

(d) Subject

Joint Aircraft System Component (JASC)/Air Transport Association (ATA) of America Code 1130, PLACARDS AND MARKINGS; Interior Placards.

(e) Unsafe Condition

This AD was prompted by an accident caused by fuel starvation where the shape of the wing fuel tanks and fuel below a certain level in that tank may have allowed the fuel to move away from the tank outlet during certain maneuvers. We are issuing this AD to prevent loss of engine power due to fuel starvation. This condition, if not corrected, could lead to loss of engine power or engine shutdown, which may result in loss of control.

(f) Compliance

Unless already done, within the next 50 hours time-in-service (TIS) after the effective date of this AD, do the actions in paragraphs (g) and (h), as applicable, including all subparagraphs:

(g) Fuel Warning Placard Inspection

(1) Inspect the fuel warning placard, if existing, following the Instructions section, of Piper Aircraft, Inc. Mandatory Service Bulletin No. 1266, dated December 16, 2014. If the placard is present and compliant with the Instructions section of Piper Aircraft, Inc. Mandatory Service Bulletin No. 1266, dated December 16, 2014, then no further action regarding the placard is required.

(2) If the fuel warning placard is not present or not compliant with the Instructions section of Piper Aircraft, Inc. Mandatory Service Bulletin No. 1266, dated December 16, 2014, then order or, as applicable, fabricate, and install the applicable fuel warning placard following the Instructions section of Piper Aircraft, Inc. Mandatory Service Bulletin No. 1266, dated December 16, 2014. You may order the applicable placard from Piper Aircraft, Inc. at the address identified in paragraph (j)(2) of this AD.

(h) Pilot's Operating Handbook (POH)/Airplane Flight Manual (AFM) Inspection

(1) Inspect the Limitations section of the applicable POH/AFM following the Instructions section of Piper Aircraft, Inc. Mandatory Service Bulletin No. 1266, dated December 16, 2014.

(2) If the Limitations section of the applicable POH/AFM contains the exact text found in table 2 of Piper Aircraft, Inc. Mandatory Service Bulletin No. 1266, dated December 16, 2014, there is no need for a POH/AFM revision.

(3) If the Limitations section of the applicable POH/AFM does not contain the exact text found in table 2, a POH/AFM revision is required. Contact Piper Aircraft, Inc. at the address identified in paragraph (j)(2) of this AD and request the applicable POH/AFM revision.

(i) Alternative Methods of Compliance (AMOCs)

(1) The Manager, Atlanta Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j)(1) of this AD.

(2) Before using any approved AMOC, notify your appropriate principal inspector, or lacking a principal inspector, the manager of the local flight standards district office/certificate holding district office.

(j) Related Information

(1) For more information about this AD, contact Ansel James, Aerospace Engineer, Atlanta Aircraft Certification Office, FAA, 1701 Columbia Avenue, College Park, Georgia 30337; telephone: (404) 474-5576; fax: (404) 474-5606; email: ansel.james@faa.gov.

(2) For service information identified in this AD, contact Piper Aircraft, Inc., Customer Service, 2926 Piper Drive, Vero Beach, Florida 32960; telephone: (877) 879-0275; fax: none; email: customer.service@piper.com; Internet: www.piper.com. You may view this referenced service information at the FAA, Small Airplane Directorate, 901 Locust, Kansas City, Missouri 64106. For information on the availability of this material at the FAA, call (816) 329-4148.

Issued in Kansas City, Missouri, on March 12, 2015.
Robert Busto,
Acting Manager, Small Airplane Directorate, Aircraft Certification Service.

[FR Doc. 2015-06414 Filed 3-20-15; 8:45 am]

BILLING CODE 4910-13-P